DEPARTMENT OF HEALTH AND HUMAN SERVICES

Centers for Disease Control and Prevention

Notice

Pursuant to the Federal Advisory Committee Act, Public Law 92-463, as amended (5 U.S.C. App. 2), the Centers for Disease Control and Prevention (CDC) announces the establishment by the Secretary of Health and Human Services, January 19, 2001, of the following Federal advisory committee:

Designation: Board of Scientific Counselors, National Center for Health Statistics.

Purpose: The Board of Scientific Counselors, National Center for Health Statistics (NCHS), shall provide advice and make recommendations to the Secretary; the Director, Centers for Disease Control and Prevention (CDC); and the Director, National Center for Health Statistics (NCHS), regarding the scientific and technical program goals and objectives, strategies, and priorities of NCHS. The Board shall provide advice and guidance on statistical and epidemiological research and activities that focus on issues such as: determinants of health; extent and nature of illness and disability, including life expectancy; incidence of various acute and chronic illnesses/impairments and accidental injuries; prevalence of chronic diseases and impairments; infant and maternal morbidity and mortality; nutrition status; environmental, social, and other hazards affecting health status; health resources associated with physician and dental visits, hospitalizations, nursing, are extended facilities, home health agencies, and other health institutions; utilization of health care in a broad array of settings; trends in prices/costs and sources of payments; Federal, State, and local government expenditures for health care services; the relationship between demographic and socioeconomic characteristics and health characteristics; family formation, growth, and dissolution; new or improved methods for obtaining current data on the aforementioned factors; data security and confidentiality and comparability of data; and standardized means to collect information and statistics. Additionally, the Board shall make recommendations about opportunities for NCHS programs to examine and employ new approaches to monitoring and evaluating key public health, health policy, and welfare policy changes, with particular attention to means to automate the collection of data, apply new data processing and analytic tools, and store and disseminate data in a more timely and accessible manner.

Further, the Board may provide second-level scientific and programmatic review for applications for grants-in-aid for research/demonstration and training activities that focus on the above matters. Members will be responsible for surveying the state-of-the-art of their respective disciplines, reporting, as appropriate, to the full committee and recommending convening of workshops or symposia to educate or update all committee members.

Authority for this committee will expire on January 19, 2003, unless the Secretary of Health and Human Services, with the concurrence of the Committee Management Secretariat, General Services Administration, formally determines that continuance is in the public interest.

The Director, Management Analysis and Services Office, has been delegated the authority to sign Federal Register notices pertaining to announcements of meetings and other committee management activities, for both the Centers for Disease Control and Prevention and the Agency for Toxic Substances and Disease Registry.

Dated: January 25, 2001.
Carolyn J. Russell,
Director, Management Analysis and Services Office, Centers for Disease Control and Prevention.

[FR Doc. 01-2623 Filed 1-30-01; 8:45 am]

BILLING CODE 4163-18-U